Title 3—

The President

Proclamation 7533 of March 21, 2002

National Bone and Joint Decade, 2002-2011

By the President of the United States of America

A Proclamation

Living a life free from daily bone pain or joint discomfort is something most people take for granted. Our bones, joints, and connective tissues are the structure upon which all other systems of the body depend. They give us strength, mobility, protection, and stability. And they permit us to perform a great variety of physical activities that shape our daily lives.

Our musculoskeletal structure is a complex system of tissue and bone that is regularly subjected to trauma, metabolic and genetic processes, and the gradual wear and tear of an active life. When these bones and tissues become damaged or diseased, they can create chronic conditions that may seriously impede and sometimes permanently affect one's health and well-being.

In the United States, musculoskeletal disorders are a leading cause of physical disability. Conditions such as osteoporosis, osteoarthritis, rheumatoid arthritis, back pain, spinal disorders, and fractures, also affect hundreds of millions of people around the world. And many children suffer from crippling bone and joint diseases and deformities, impeding normal development and preventing them from experiencing a full and healthy life.

The incidence of musculoskeletal conditions will increase as the average age of our population increases. And our culture's increasing emphasis on physical activity, while important to society's overall well-being, will also increase the stress factors on bones and joints. Ensuing disorders, if left untreated, could result in significant pain and suffering that would affect employment, well-being, and healthcare costs.

National Bone and Joint Decade, 2002-2011, envisions a series of international initiatives among physicians, health professionals, patients, and communities, working together to raise awareness about musculoskeletal disorders and promoting research and development into therapies, preventative measures, and cures for these disorders. Advances in the prevention, diagnosis, treatment, and research of musculoskeletal conditions will greatly enhance the quality of life of our aging population.

The National Institutes of Health, the National Institute of Arthritis and Musculoskeletal and Skin Diseases, and other Federal agencies support many bone and joint studies. Industry and private professional and voluntary agencies support other initiatives. This work involves scientists examining the possible genetic causes of bone and joint diseases and studying how hormones, growth factors, and drugs regulate the skeleton. Other researchers are studying bone density, quality, and metabolism, and other ways to increase the longevity of joint replacements for those whose daily activities have become painful, difficult, or even impossible. These research efforts can help relieve pain and suffering and give countless children and adults the opportunity for a better life.

Thanks to the hard work of these dedicated researchers, we have made great progress in understanding and treating musculoskeletal disorders. I commend their efforts and encourage them to pursue diligently further research that will help those suffering from these disorders. And I hope that all Americans will learn more about musculoskeletal problems, their long- and short-term effects, and the therapies and treatments available to help them.

NOW, THEREFORE, I, GEORGE W. BUSH, President of the United States of America, by virtue of the authority vested in me by the Constitution and laws of the United States, do hereby proclaim the years 2002-2011, as National Bone and Joint Decade. I call upon the people of the United States to observe the decade with appropriate programs and activities; and I call upon the medical community to pursue research in this important area.

IN WITNESS WHEREOF, I have hereunto set my hand this twenty-first day of March, in the year of our Lord two thousand two, and of the Independence of the United States of America the two hundred and twenty-sixth.

B

[FR Doc. 02-7360

Filed 3-25-02; 8:45 am]

Billing code 3195-01-P